DEPARTMENT OF HOMELAND SECURITY

Transportation Security Administration

Aviation Security Advisory Committee (ASAC) Re-Establishment and Request for Applicants

AGENCY: Transportation Security Administration, DHS.

ACTION: Notice.

SUMMARY: The Transportation Security Administration (TSA) announces the re-establishment of the Aviation Security Advisory Committee (ASAC) and requests applicants for appointment to ASAC. The Secretary of Homeland Security has determined that the re-establishment of ASAC is necessary and in the public interest in connection with the performance of duties of TSA. This determination follows consultation with the Committee Management Secretariat, General Services Administration, who is responsible for monitoring and reporting executive branch compliance with the Federal Advisory Committee Act (FACA). Qualified individuals interested in serving on this committee are invited to apply to TSA for appointment.

DATES: Submit comments on the re-establishment of this committee or applications for membership by April 18, 2008.

ADDRESSES: Comments on this action or applications for appointment to ASAC should be submitted via mail or e-mail to Cindy Mitchell, at the address listed below under FOR FURTHER INFORMATION CONTACT.

FOR FURTHER INFORMATION CONTACT: Cindy Mitchell, ASAC Designated Federal Official, Office of Transportation Sector Network Management, Transportation Sector Network Integration Division (TSA-28), Transportation Security Administration, 601 12th Street, Arlington, VA 22202; telephone 571-227-1609, E-mail: cindy.mitchell@dhs.gov.

SUPPLEMENTARY INFORMATION:

Background

TSA's Aviation Security Advisory Committee (ASAC) is a “discretionary” advisory committee. A discretionary advisory committee is one that is established under the authority of an agency head or authorized, but not required, by statute. An advisory committee referenced in general (non-specific) authorizing language or Congressional committee report language is discretionary, and its establishment or termination is within the legal discretion of an agency head.

ASAC is a standing committee composed of Federal and private sector organizations that was chartered in 1989 by the Federal Aviation Administration in the wake of the crash of Pan American World Airways Flight 103 in 1988 over Lockerbie, Scotland.

On November 19, 2001, the Aviation and Transportation Security Act (ATSA) was signed into law, which among other things established the Transportation Security Administration (TSA) and transferred to it the responsibility for civil aviation security. Accordingly, sponsorship of ASAC was also transferred to TSA. Since taking on management of ASAC in August 2002, TSA has taken steps to focus the committee's efforts in directions that are relevant and useful to TSA's post-September 11 mission.

The Aviation Security Advisory Committee Re-Establishment

The Aviation Security Advisory Committee is being re-established in accordance with the provisions of the Federal Advisory Committee Act (FACA) (5 U.S.C. App.). ASAC's mission is to examine areas of civil aviation security as tasked by TSA with the aim of addressing current issues and/or developing recommendations for improvements to civil aviation security methods, equipment, and processes. The committee will provide advice and recommendations for improving aviation security measures to the Assistant Secretary for TSA.

Name of Committee: Aviation Security Advisory Committee.

Balanced Membership Plans: ASAC is composed of no more than 27 members representing private sector organizations of key constituencies affected by aviation security requirements. These key constituencies shall include: Victims of Terrorist Acts Against Aviation; Law Enforcement and Security Experts; Aviation Consumer Advocates; Airport Tenants and General Aviation; Airport Operators; Airline Management; Airline Labor; Aircraft Manufacturers; and Air Cargo Representatives. Each membership category shall have at least one member, and there shall be a maximum of three members per membership category.

Members are recommended for appointment by the TSA Assistant Secretary and appointed by and serve at the pleasure of the Secretary of the Department of Homeland Security. Terms of office shall normally be two (2) years, and members' terms of office shall be staggered within each membership category to assure adequate continuity of ASAC membership. Therefore, some members appointed under this announcement shall be appointed to a one-year (1) term of office.

Duration: The committee's charter shall terminate two (2) years from the date it is filed with Congress and may be renewed at the end of this 2-year period in accordance with section 14 of FACA.

Responsible TSA Officials: Cindy Mitchell, ASAC Designated Federal Official, Aviation Security Advisory Committee, Office of Transportation Sector Network Management, Transportation Sector Network Integration Division (TSA-28), Transportation Security Administration, 601 12th Street, Arlington, VA 22202; telephone: 571-227-1609, E-mail: cindy.mitchell@dhs.gov.

Applicants for Appointment to ASAC

Qualified individuals interested in serving on this committee are invited to apply to TSA for appointment. Please submit your resume to the Responsible DHS Official noted above by April 18, 2008. Applicants should have background and experience that supports at least one of the nine constituency groups in the aforementioned Balanced Membership Plans section.

The ASAC will meet approximately twice each year, usually in Washington, D.C., but may meet more often if the need arises. Members serve at their own expense and receive no salary, reimbursement of travel expenses, or other compensation from the Federal Government. TSA retains authority to review the participation of any ASAC member and to recommend changes for cause at any time.

In support of the policy of the Department of Homeland Security on gender and ethnic diversity, qualified women and minorities are encouraged to apply for membership.

Issued in Arlington, Virginia, on March 12, 2008 .
John Sammon,
Assistant Administrator, Transportation Sector Network Management.

[FR Doc. E8-5469 Filed 3-18-08; 8:45 am]

BILLING CODE 9110-05-P